DEPARTMENT OF COMMERCE

National Oceanic and Atmospheric Administration

50 CFR Part 679

[Docket No. 060216044-6044-01; I.D. 090606C]

Fisheries of the Economic Exclusive Zone Off Alaska; Shallow-Water Species Fishery by Vessels Using Trawl Gear in the Gulf of Alaska

AGENCY: National Marine Fisheries Service (NMFS), National Oceanic and Atmospheric Administration (NOAA), Commerce.

ACTION: Temporary rule; inseason adjustment; opening; request for comments.

SUMMARY: NMFS is opening directed fishing for species that comprise the shallow-water species fishery by vessels using trawl gear in the Gulf of Alaska (GOA), effective 1200 hours, Alaska local time, September 6, 2006. This adjustment is necessary to allow a 12-hour fishery for species that comprise the shallow-water species fishery by vessels using trawl gear in the GOA to resume, without exceeding the 2006 Pacific halibut bycatch allowance specified for the shallow-water species fishery in the GOA.

DATES: Effective 12 noon, Alaska local time (A.l.t.), September 6, 2006, through 12 midnight, A.l.t., September 6, 2006.

Comments must be received no later than 4:30 p.m., A.l.t., September 21, 2006.

ADDRESSES: Send comments to Sue Salveson, Assistant Regional Administrator, Sustainable Fisheries Division, Alaska Region, NMFS, Attn: Ellen Walsh. Comments may be submitted by:

• Mail to: P.O. Box 21668, Juneau, AK 99802;

• Hand delivery to the Federal Building, 709 West 9th Street, Room 420A, Juneau, Alaska;

• FAX to 907-586-7557;

• E-mail to shallowtrawl@noaa.gov and include in the subject line of the e-mail comment the document identifier: goaswx4srob (E-mail comments, with or without attachments, are limited to 5 megabytes); or

• Webform at the Federal eRulemaking Portal: www.regulations.gov. Follow the instructions at that site for submitting comments.

FOR FURTHER INFORMATION CONTACT: Jennifer Hogan, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2006 Pacific halibut bycatch allowance specified for the shallow-water species fishery in the GOA is 900 metric tons (mt) as established by the 2006 and 2007 harvest specifications for groundfish of the GOA (71 FR 10870, March 3, 2006), for the period 1200 hrs, A.l.t., September 1, 2006, through 1200 hrs, A.l.t., October 1, 2006. NMFS closed directed fishing for species that comprise the shallow-water species fishery by vessels using trawl gear in the GOA under § 679.21(d)(7)(i) on September 1, 2006 (71 FR 51784, August 31, 2006).

NMFS has determined that approximately 220 mt of halibut remain in the 2006 Pacific halibut bycatch allowance specified for the trawl shallow-water species fishery in the GOA. Therefore, in accordance with § 679.25(a)(2)(i)(C) and (a)(2)(iii)(D), and to allow the shallow-water species fisheries by vessels using trawl gear in the GOA to resume, NMFS is temporarily terminating the August 31, 2006 (71 FR 51784) closure by reopening directed fishing for species that comprise the shallow-water species fishery by vessels using trawl gear in the GOA for 12 hours, effective 1200 noon, A.l.t., September 6, 2006. The species and species groups that comprise the shallow-water species fishery are pollock, Pacific cod, shallow-water flatfish, flathead sole, Atka mackerel, skates, and “other species.”

After the effective date of this closure, the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the delay the opening of the fishery, not allow the full utilization of the species and species groups that comprise the shallow-water species fisheries, and therefore reduce the public's ability to use and enjoy the fishery resource. NMFS was unable to publish a notice providing time for public comment because the most recent, relevant data only became available as of September 5, 2006.

The AA also finds good cause to waive the 30-day delay in the effective date of this action under 5 U.S.C. 553(d)(3). This finding is based upon the reasons provided above for waiver of prior notice and opportunity for public comment.

Without this inseason adjustment, NMFS could not allow the shallow-water species fishery by vessels using trawl gear in the GOA to be harvested in an expedient manner and in accordance with the regulatory schedule. Under § 679.25(c)(2), interested persons are invited to submit written comments on this action to the above address until September 21, 2006.

This action is required by § 679.21 and is exempt from review under Executive Order 12866.

Authority: 16 U.S.C. 1801 et seq.

Dated: September 6, 2006.
James P. Burgess,
Acting Director, Office of Sustainable Fisheries, National Marine Fisheries Service.

[FR Doc. 06-7571 Filed 9-6-06; 1:37 pm]

BILLING CODE 3510-22-S